DEPARTMENT OF COMMERCE

International Trade Administration

[A-570-601]

Tapered Roller Bearings and Parts Thereof, Finished and Unfinished, From the People's Republic of China: Final Results of the Antidumping Duty Administrative Review and Final Results of the New Shipper Review; 2012-2013

AGENCY: Enforcement and Compliance, International Trade Administration, Department of Commerce.

SUMMARY: On July 23, 2014, the Department of Commerce (the Department) published the preliminary results and partial rescission of the 26th administrative review and the preliminary results of one new shipper review (NSR) of the antidumping duty order on tapered roller bearings and parts thereof, finished and unfinished (TRBs), from the People's Republic of China (PRC).¹ The period of review (POR) is June 1, 2012, through May 31, 2013. Based on our analysis of the comments received, we have made certain changes in the margin calculations. Therefore, the final results differ from the preliminary results. The final weighted-average dumping margins for the reviewed firms are listed below in the section entitled “Final Results of the Reviews.”

¹ See Tapered Roller Bearings and Parts Thereof, Finished and Unfinished, From the People's Republic of China: Preliminary Results and Partial Rescission of the Antidumping Duty Administrative Review and Preliminary Results of the New Shipper Review; 2012-2013, 79 FR 42758 (July 23, 2014) (Preliminary Results), and accompanying Preliminary Decision Memorandum.

DATES: Effective Date: January 27, 2015.

FOR FURTHER INFORMATION CONTACT: Blaine Wiltse or Steve Bailey, AD/CVD Operations, Office II, Enforcement and Compliance, International Trade Administration, U.S. Department of Commerce, 14th Street and Constitution Avenue NW., Washington, DC 20230; telephone: (202) 482-6345 or (202) 482-0193, respectively.

Background

These final results of administrative review cover two exporters ² of the subject merchandise, of which the Department selected Changshan Peer Bearing Co. Ltd. (CPZ/SKF) as a mandatory respondent for individual examination. The respondent which was not selected for individual examination, Zhejiang Zhaofeng Mechanical and Electronic Co., Ltd. (Zhaofeng), is listed in the “Final Results of the Reviews” section of this notice. The NSR covers entries produced and exported by Shanghai Tainai Bearing Co., Ltd. (Tainai).

² This review originally covered four exporters. However, the Department rescinded the review with respect to Xiangyang Automobile Bearing Co., Ltd. and GGB Bearing Technology (Suzhou) Co., Ltd. in the Preliminary Results. See Preliminary Results, 79 FR at 42758-59.

On July 23, 2014, the Department published the Preliminary Results. In August 2014, we received case and rebuttal briefs from the Timken Company (the petitioner) and CPZ/SKF. In August 2014, we also received a rebuttal brief from Tainai. In September 2014, the Department held a public hearing at the request of the petitioner. On October 27, 2014, the Department extended the final results in these reviews to no later than January 20, 2015.³

³ See Memorandum to Christian Marsh, Deputy Assistant Secretary for Antidumping and Countervailing Duty Operations, from Blaine Wiltse, Senior International Trade Compliance Analyst, Office II, Antidumping and Countervailing Duty Operations, entitled, “Tapered Roller Bearings and Parts Thereof, Finished and Unfinished, from the People's Republic of China: Extension of Deadline for Final Results of Antidumping Duty Administrative Review and New Shipper Review,” dated October 27, 2014.

The Department has conducted these reviews in accordance with section 751 of the Tariff Act of 1930, as amended (the Act).

Scope of the Order

The merchandise covered by the Order ⁴ includes tapered roller bearings tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the Order is dispositive.⁵

⁴ See Notice of Antidumping Duty Order; Tapered Roller Bearings and Parts Thereof, Finished or Unfinished, From the People's Republic of China, 52 FR 22667 (June 15, 1987) (Order).

⁵ For a complete description of the scope of the Order, see the “Issues and Decision Memorandum for the Antidumping Duty Administrative Review and New Shipper Review (2012-2013): Tapered Roller Bearings and Parts Thereof, Finished and Unfinished, From the People's Republic of China,” from Christian Marsh, Deputy Assistant Secretary for Antidumping and Countervailing Duty Operations, to Paul Piquado, Assistant Secretary for Antidumping and Countervailing Duty Operations, dated concurrently with, and adopted by, this notice (Issues and Decision Memo).

Separate Rates

In the Preliminary Results, we found that evidence provided by CPZ/SKF, Tainai, and Zhaofeng supported finding an absence of both de jure and de facto government control, and, therefore, we preliminarily granted a separate rate to each of these companies.⁶ We have received no information since the issuance of the Preliminary Results that provides a basis for reconsidering these determinations. Therefore, for the final results, we continue to find that CPZ/SKF, Tainai, and Zhaofeng are eligible for a separate rate.

⁶ See Preliminary Results, 79 FR at 42759, and accompanying Preliminary Decision Memorandum at 4-7.

Weighted-Average Dumping Margin for the Non-Examined, Separate-Rate Company

For the exporters subject to a review that are determined to be eligible for a separate rate, but are not selected as individually examined respondents, the Department generally weight averages the rates calculated for the individually examined respondents, excluding any rates that are zero, de minimis, or based entirely on facts available.⁷ In this administrative review, the only individually-examined company is CPZ/SKF, which has a rate that is not zero, de minimis, or based entirely on facts available. Accordingly, consistent with the Department's practice,⁸ we have determined that the weighted-average dumping margin to be assigned to the separate rate respondent not individually examined (i.e., Zhaofeng) should be the weighted-average dumping margin calculated for the mandatory respondent, CPZ/SKF.

⁷ See, e.g., Wooden Bedroom Furniture From the People's Republic of China: Preliminary Results of Antidumping Duty Administrative Review, Preliminary Results of New Shipper Review and Partial Rescission of Administrative Review, 73 FR 8273, 8279 (February 13, 2008) (unchanged in Wooden Bedroom Furniture From the People's Republic of China: Final Results of Antidumping Duty Administrative Review and New Shipper Review, 73 FR 49162 (August 20, 2008)).

⁸ See, e.g., Tapered Roller Bearings and Parts Thereof, Finished and Unfinished, From the People's Republic of China: Final Results of Antidumping Duty Administrative Review; 2010-2011, 78 FR 3396, 3397 (January 16, 2013).

Analysis of Comments Received

All issues which have been raised in the case briefs by parties to this administrative review and this NSR are addressed in the Issues and Decision Memo. A list of the issues which parties raised and to which we respond in the Issues and Decision Memo is attached to this notice as an Appendix. The Issues and Decision Memo is a public document and is on file electronically via Enforcement and Compliance's Antidumping and Countervailing Duty Centralized Electronic Service System (ACCESS).⁹ ACCESS is available to registered users at https://access.trade.gov, and it is available to all parties in the Central Records Unit, Room 7046 of the main Department of Commerce building. In addition, a complete version of the Issues and Decision Memo can be accessed directly at http://enforcement.trade.gov/frn/index.html. The signed Issues and Decision Memo and the electronic version of the Issues and Decision Memo are identical in content.

⁹ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Changes Since the Preliminary Results

Based on our analysis of the comments received, we made changes in the margin calculations for CPZ/SKF and Tainai. These changes are discussed in the relevant sections of the Issues and Decision Memo and company-specific analysis memoranda, as appropriate.

Period of Review

The POR is June 1, 2012, through May 31, 2013.

Final Results of the Reviews

Regarding the administrative review, we are assigning the following weighted-average dumping margins to the firms listed below for the period June 1, 2012, through May 31, 2013:

Exporter | Weighted-average dumping margin (percent)
Changshan Peer Bearing Co., Ltd | 0.65
Zhejiang Zhaofeng Mechanical and Electronic Co., Ltd * | 0.65
* This company demonstrated eligibility for a separate rate in this administrative review. As discussed above, the rate for this company is the calculated weighted-average dumping margin for CPZ/SKF.

Regarding the NSR, we are assigning the following weighted-average dumping margin to the exporter/producer combination listed below for the period June 1, 2012, through May 31, 2013:

Exporter | Producer | Weighted-average dumping margin (percent)
Shanghai Tainai Bearing Co., Ltd | Shanghai Tainai Bearing Co., Ltd | 0.00

Disclosure

We intend to disclose the calculations performed within five days of the date of publication of this notice to parties in this proceeding in accordance with 19 CFR 351.224(b).

Assessment Rates

Pursuant to section 751(a)(2)(C) of the Act, and 19 CFR 351.212(b)(1), the Department has determined, and Customs and Border Protection (CBP) shall assess, antidumping duties on all appropriate entries of subject merchandise, where applicable, in accordance with the final results of these reviews. The Department intends to issue assessment instructions to CBP 15 days after the date of publication of these final results of reviews.

For each individually-examined respondent (either the exporter or producer and exporter combination specified above) whose weighted-average dumping margin is not zero or de minimis (i.e., less than 0.50 percent), we calculated importer-specific assessment rates for entries subject to these reviews. For entries of subject merchandise exported by CPZ/SKF and for entries of subject merchandise produced and exported by Tainai, we calculated an ad valorem rate for each importer by dividing the total amount of dumping calculated for the importer's examined sales by the total entered values associated with those sales, in accordance with 19 CFR 351.212(b)(1). For duty assessment rates calculated on this basis, we will direct CBP to assess the resulting ad valorem rate against the entered customs values for the subject merchandise. We will instruct CBP to assess antidumping duties on all appropriate entries covered by this review where an importer-specific assessment rate is not zero or de minimis. Where either the respondent's weighted-average dumping margin is zero or de minimis, or an importer-specific assessment rate is zero or de minimis, we will instruct CBP to liquidate the appropriate entries without regard to antidumping duties.¹⁰ For Zhaofeng, the ad valorem assessment rate will be equal to the weighted-average dumping margin assigned above in the final results of review.

¹⁰ See 19 CFR 351.106(c)(2).

On October 24, 2011, the Department announced a refinement to its assessment practice in NME cases. Pursuant to this refinement in practice, for entries that were not reported in the U.S. sales databases submitted by the company individually examined during this review, the Department will instruct CBP to liquidate such entries at the rate applicable to the PRC-wide entity (i.e., 92.84 percent).¹¹

¹¹ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review (except, if the rate is de minimis, then a cash deposit rate of zero will be established for that company); (2) for previously investigated or reviewed PRC and non-PRC exporters not listed above that currently have separate a rate, the cash deposit rate will continue to be the exporter-specific rate published for the most recently completed segment of this proceeding where the exporter received that separate rate; (3) for all PRC exporters of subject merchandise that have not been found to be entitled to a separate rate, the cash deposit rate will be the rate for the PRC-wide entity, 92.84 percent; and (4) for all non-PRC exporters of subject merchandise which have not received their own separate rate, the cash deposit rate will be the rate applicable to the PRC exporter that supplied that non-PRC exporter.

With respect to the NSR, consistent with the Department's practice,¹² the Department has established a producer/exporter combination cash deposit rate for Tainai as follows: (1) For subject merchandise exported and produced by Tainai, the cash deposit rate will be equal to the weighted-average dumping margin for Tainai in the final results of this review; (2) for subject merchandise exported by Tainai but not produced by Tainai, the cash deposit rate will be the rate for the PRC-wide entity, 92.84 percent; (3) for subject merchandise produced by Tainai but not exported by Tainai, the cash deposit rate will be the rate applicable to that exporter.

¹² See e.g., Certain New Pneumatic Off-the-Road Tires From the People's Republic of China: Final Results of Antidumping Duty New Shipper Review; 2011-2012, 78 FR 33341, 33342 (June 4, 2013).

These deposit requirements, when imposed, shall remain in effect until further notice.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1), 751(a)(2)(B) and 777(i)(1) of the Act.

Dated: January 20, 2015.
Paul Piquado,
Assistant Secretary for Enforcement and Compliance.

Appendix—List of Topics Discussed in the Issues and Decision Memo

1. Surrogate Value for Truck Freight

2. Using the Sigma Cap and Unreported Affiliate Distances

3. By-Products Offsets

CPZ/SKF Issues

4. Collapsing of Shanghai General Bearing Co., Ltd. and CPZ/SKF

5. Adverse Facts Available for CPZ/SKF

6. Market Economy Purchases of Steel

7. Calculation of Input Freight

8. Including Certain Fees in International Freight Expenses

9. Treatment of Value Added Tax

Tainai Issues

10. AFA for Tainai

[FR Doc. 2015-01489 Filed 1-26-15; 8:45 a.m.]

BILLING CODE 3510-DS-P